DEPARTMENT OF JUSTICE

Drug Enforcement Administration

Robert A. Kooker, M.D.; Revocation of Registration

On June 12, 2002, the Deputy Assistant Administrator, Office of Diversion Control, Drug Enforcement Administration (DEA), issued an Order to Show Cause to Robert A. Kooker, M.D. (Dr. Kooker) of Loomis, California, notifying him of an opportunity to show cause as to why DEA should not revoke his DEA Certificate of Registration, AK1490779 under 21 U.S.C. 824(a), and deny any pending applications for renewal or modification of that registration. As a basis for revocation, the Order to Show Cause alleged that Dr. Kooker is not currently authorized to handle controlled substances in California, the state in which he practices. The order also notified Dr. Kooker that should no request for a hearing be filed within 30 days, his hearing right would be deemed waived.

The Order to Show Cause was sent by certified mail to Dr. Kooker at his registered location in Loomis, California. DEA received a signed receipt indicating that the Order to Show Cause was received by Dr. Kooker on or around June 27, 2002. DEA has not received a request for hearing on any other reply from Dr. Kooker or anyone purporting to represent him in this matter. Therefore, the Deputy Administrator, finding that (1) 30 days have passed since the receipt of the Order to Show Cause, and (2) no request for a hearing having been received, concludes that Dr. Kooker is deemed to have waived his hearing right. After considering material from the investigative file in this matter, the Deputy Administrator now enters his final order without a hearing pursuant to 21 CFR 1301.43(d) and (e) and 1301.46.

The Deputy Administrator finds that Dr. Kooker possessed DEA Certificate of Registratin AK1490779. The Deputy Administrator further finds that an investigation by DEA revealed that on July 28, 2000, the California Physician's and Surgeon's Board suspended Dr. Kooker's license to practice medicine in California and ordered that Dr. Kooker could not reapply for licensing until July 28, 2003.

DEA does not have statutory authority under the Controlled Substances Act to issue or maintain a registration if the applicant or registrant is without state authority to handle controlled substances in the state in which he conducts business. See 21 U.S.C. 802(21), 823(f) and 824(a)(3). This prerequisite has been consistently upheld. See Muttaiya Darmarajeh, M.D., 66 FR 52936 (2001); Dominick A. Ricci, M.D., 58 FR 51104 (1993); Bobby Watts, M.D., 53 FR 11919 (1988).

Here, it is clear that Dr. Kooker is not licensed to handle controlled substances in the State of California, where he is registered with DEA. Therefore, he is not entitled to a DEA registration in that state.

Accordingly, the Deputy Administrator of the Drug Enforcement Administration, pursuant to the authority vested in him by 21 U.S.C. 823 and 824 and 28 CFR 0.100(b) and 0.104, hereby orders that DEA Certificate of Registration AK1490779, issued to Robert A. Kooker, M.D. be, and it hereby is, revoked. The Deputy Administrator further orders that any pending applications for renewal or modification of such registration be, and they hereby are, denied. This order is effective June 16, 2003.

Dated: April 23, 2003.
John B. Brown, III,
Deputy Administrator.

[FR Doc. 03-12158 Filed 5-14-03; 8:45 am]

BILLING CODE 4410-09-M